OFFICE OF SPECIAL COUNSEL

Change of Address for Dallas Office

AGENCY: Office of Special Counsel

ACTION: Notice

SUMMARY: Effective Monday, December 9, 2002, the Dallas Field Office (DFO) of the U.S. Office of Special Counsel (OSC) moved to the A. Maceo Smith Federal Building, 525 Griffin Street, Room 824, Box 103, Dallas, TX 75202. The DFO telephone number continues to be (214) 767-8871. Additional OSC contact information can be found on the agency Web site at http://www.osc.gov.

EFFECTIVE DATE: December 9, 2002.

FOR FURTHER INFORMATION CONTACT: Kathryn Stackhouse, by mail to the Planning and Advice Division, 1730 M Street, NW. (Suite 201), Washington, DC 20036; by telephone, at (202) 653-8971; or by fax, at (202) 653-5161.

Dated: December 10, 2002.
Elaine D. Kaplan,
Special Counsel.

[FR Doc. 02-31648 Filed 12-16-02; 8:45 am]

BILLING CODE 7405-01-S